DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held May 3-7, 2004 starting at 9 am.

ADDRESSES: The meeting will be held at ARINC, Inc. 14980 2551 Riva Road, Annapolis, MD 21401; Tel: 410-266-4000.

FOR FURTHER INFORMATION CONTACT: (1) RTCA Secretariat, 1828 L Street, NW., Suite 805, Washington, DC 20036; telephone (202) 833-9339; fax (202) 833-9434; Web site http://www.rtca.org; (2) ARINC, Inc. Contact, Vic J. Nagowski; telephone 410-266-4229; fax 602-436-5575; e-mail VJN@arinc.com.

SUPPLEMENTARY INFORMATION: Pursuant to section 10(a)(2) of the Federal Advisory Committee Act (Pub. L. 92-463, 5 U.S.C., appendix 2), notice is hereby given for a Special Committee 189/EUROCAE Working Group 53 meeting. The agenda will include:

• May 3:

• Opening Plenary Session (Welcome and Introductory Remarks, Review/Approval of Meeting Agenda, Review/Approval of Meeting Minutes)

• Sub-group and related reports; SC-189/WG-53 co-chairs progress report and review of work program

• May 4-6:

• Sub-group Meetings

• Review and resolve comments on PU-24 V3.0, Oceanic Safety and Performance Requirements Standards

• Prepare Revisions to DO-264/ED-78A

• Review and Resolve Comments on Revisions to INTEROP Standards

• May 7:

• Closing Plenary Session (Welcome and Introductory Remarks, Review/Approval of Meeting Agenda)

• Sub-group and related reports; Position papers planned for plenary agreement; SC-189/WG-53 co-chair progress report and wrap-up

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 31, 2004.
Robert Zoldos,
FAA System Engineer, RTCA Advisory Committee.

[FR Doc. 04-8820 Filed 4-16-04; 8:45 am]

BILLING CODE 4910-13-M